DEPARTMENT OF JUSTICE

Antitrust Division

Notice Pursuant to the National Cooperative Research and Production Act of 1993—Southwest Research Institute Fuel Filtration Cooperative R&D Program—Phase III

In Notice document 99-13296 appearing on page 28521 in the issue of Wednesday, May 26, 1999, in the third column, after the thirtieth line of the first paragraph, the following paragraph should be added: “Membership in the program remains open, and SwRI intends to file additional written notifications disclosing all changes in the membership or planned activities.”

Constance K. Robinson,
Director of Operations, Antitrust Division.

[FR Doc. 00-17401 Filed 7-10-00; 8:45 am]

BILLING CODE 4410-11-M